DEPARTMENT OF AGRICULTURE

Forest Service

Information Collection; Non-Timber Forest Products

AGENCY: Forest Service, Agriculture (USDA).

ACTION: Notice; request for comment.

SUMMARY: In accordance with the Paperwork Reduction Act of 1995, the Forest Service (Forest Service or Agency) is requesting public comment on the reapproval and proposed revisions of an approved information collection (ICR), 0596-0243, Non-Timber Forest Products.

DATES: Comments on reapproval and the proposed revisions of the ICR must be received in writing by February 28, 2025.

ADDRESSES: Comments may be sent to Forest Service Research and Development, 201 14th Street SW, Washington, DC 20250-1124. Comments also may be submitted by email to: julie.minde@usda.gov.

Comments submitted in response to this notice will be available to the public through relevant websites and upon request. Therefore, do not include confidential information, such as sensitive personal information or proprietary information. An email address associated with a comment will be included with the comment when it is made publicly available online.

The public may inspect the draft supporting statements for the ICR and comments received at 201 14th Street SW, Washington, DC 20250, on business days between 8:30 a.m. and 4:00 p.m. Visitors are encouraged to call ahead at 703-559-2972 to facilitate entry to the building. The public may request an electronic copy of the supporting statements and comments via return email. Requests should be emailed to julie.minde@usda.gov.

FOR FURTHER INFORMATION CONTACT: Julie Minde, Social Science Analyst, at julie.minde@usda.gov or 703-559-2972. Individuals who use telecommunication devices for the deaf and hard of hearing may call 711 to reach the Telecommunications Relay Service, 24 hours a day, every day of the year, including holidays.

SUPPLEMENTARY INFORMATION:

Title: Non-Timber Forest Products.

OMB Number: 0596-0243.

Expiration Date of Approval: February 28, 2025.

Type of Request: Reapproval and proposed revisions of an approved ICR.

Abstract:

Non-timber forest products are plants, mushrooms, and plant- or tree-derived goods like nuts, boughs, sap, and leaves that are harvested for use as food, medicine, cultural, artisan, and other purposes. Some gathering is planned and systematic, while much of it is informal, unplanned, opportunistic, or incidental to other outdoor recreation activities. For some people, harvested wild plants and mushrooms make up a substantial or nutritionally important part of their diet. In other cases, non-timber forest products are locally or regionally important products for businesses.

Many opportunities exist to manage forests and other natural areas to enhance the supply of non-timber forest products. This increases the benefits they provide to society, individuals, and cultures and helps maintain populations of important non-timber forest products in the face of changes like invasive species and climate impacts. Potential public benefits include improved public health outcomes from outdoor activity and access to socially, culturally, and economically significant products. Harvesting and consuming non-timber forest products also may help supplement food sources for people with limited access to fresh, affordable food.

Many laws and policies direct the Forest Service to consider and manage for non-timber forest products for the benefit of the public and to meet trust responsibilities to American Indians and Alaskan Natives on federal and Tribal lands, e.g., Forest and Rangeland Renewable Resources Planning Act (RPA) of 1974, Forest and Rangeland Renewable Resources Research Act of 1978. Managing forests and other natural areas to provide non-timber forest products in a sustainable way requires detailed, science-based information. Gaining new information can help us understand how uses of non-timber forest products have changed over time in response to management, socio-cultural circumstances, the economic conditions of Tribes, and environmental forces of change.

The Forest Service seeks to obtain OMB approval for extension with revision to a currently approved information collection to collect information from who manage, make policies for, or otherwise have a stake in the management of lands where non-timber forest products may be harvested.

Estimated Annual Burden per Response: 25 minutes for survey; 60 minutes for interview; 90 minutes for focus group.

Types of Respondents: Individuals and households, businesses and non-profit organizations, and state, local or Tribal Government.

Estimated Annual Number of Respondents: 1,300.

Estimated Annual Number of Responses per Respondent: 1.

Estimated Total Annual Burden on Respondents: 276 hours.

Comment is invited on: (1) whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request for Office of Management and Budget for reapproval of the ICR as revised.

JoLynn Anderson,
Liason.

[FR Doc. 2024-31346 Filed 12-27-24; 8:45 am]

BILLING CODE 3411-15-P